DEPARTMENT OF HOMELAND SECURITY

Federal Emergency Management Agency

44 CFR Part 65

[Docket ID FEMA-2010-0003; Internal Agency Docket No. FEMA-B-1102]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: St. Clair | Unincorporated areas of St. Clair County (09-04-6331P) | December 24, 2009; December 31, 2009; The St. Clair News-Aegis | Mr. Stanley Batemon, Chairman, St. Clair County Commission, 165 5th Avenue, Suite 100, Ashville, AL 35953 | April 30, 2010 | 010290
Arizona:
Pima | Town of Marana (09-09-0980P) | September 21, 2009; September 28, 2009; Daily Territorial | The Honorable Ed Honea, Mayor, Town of Marana, 11555 West Civic Center Drive, Marana, AZ 85653 | January 26, 2010 | 040118
Pima | Town of Marana (08-09-1811P) | October 9, 2009; October 16, 2009; Daily Territorial | The Honorable Ed Honea, Mayor, Town of Marana, 11555 West Civic Center Drive, Marana, AZ 85653 | January 19, 2010 | 040118
Pima | Town of Oro Valley (08-09-1811P) | October 9, 2009; October 16, 2009; Daily Territorial | The Honorable Paul H. Loomis, Mayor, Town of Oro Valley, 11000 North La Canada Drive, Oro Valley, AZ 85737 | January 19, 2010 | 040109
Pima | Unincorporated areas of Pima County (08-09-1811P) | October 9, 2009; October 16, 2009; Daily Territorial | The Honorable Richard Elias, Chairman, Pima County Board of Supervisors, 130 West Congress Street, 11th Floor, Tucson, AZ 85701 | January 19, 2010 | 040073
Yuma | Unincorporated areas of Yuma County (09-09-1722P) | December 21, 2009; December 28, 2009; Yuma Sun | The Honorable Gregory S. Ferguson, Chairman, Yuma County Board of Supervisors, 198 South Main Street, Yuma, AZ 85364 | December 7, 2009 | 040099
Arkansas:
Benton | Town of Bethel Heights (09-06-1075P) | January 6, 2010; January 13, 2010; Arkansas Democrat-Gazette | The Honorable Fred Jack, Mayor, Town of Bethel Heights, 530 Sunrise Drive, Bethel Heights, AR 72764 | May 13, 2010 | 050386
Benton | City of Lowell (09-06-1075P) | January 6, 2010; January 13, 2010; Arkansas Democrat-Gazette | The Honorable Perry Long, Mayor, City of Lowell, 216 North Lincoln Street, Lowell, AR 72745 | May 13, 2010 | 050342
California: Santa Clara | City of San Jose (10-09-0251P) | January 5, 2010; January 12, 2010; San Jose Mercury News | The Honorable Chuck Reed, Mayor, City of San Jose, 200 East Santa Clara Street, San Jose, CA 95113 | December 29, 2009 | 060349
Florida:
Hillsborough | Unincorporated areas of Hillsborough County (09-04-6011P) | January 4, 2010; January 11, 2010; Tampa Tribune | The Honorable Ken Hagan, Chairman, Hillsborough County Board of Commissioners, P.O. Box 1110, Tampa, FL 33601 | January 22, 2010 | 120112
Lake | Unincorporated areas of Lake County (09-04-4297P) | January 4, 2010; January 11, 2010; Daily Commercial | The Honorable Welton G. Cadwell, Chairman, Lake County Board of Commissioners, P.O. Box 7800, Tavares, FL 32778 | May 11, 2010 | 120421
Illinois:
Kane | City of Elgin (09-05-2958P) | December 29, 2009; January 5, 2010; Courier News | The Honorable Edward Schock, Mayor, City of Elgin, 150 Dexter Court, Elgin, IL 60120 | May 5, 2010 | 170087
Kane | Village of Hampshire (09-05-2792P) | December 22, 2009; December 29, 2009; Kane County Chronicle | The Honorable Jeffrey Magnussen, President, Village of Hampshire, P.O. Box 457, Hampshire, IL 60140 | April 28, 2010 | 170327
Kane | Unincorporated areas of Kane County (09-05-2792P) | December 22, 2009; December 29, 2009; Kane County Chronicle | The Honorable Karen McConnaughay, Chairman, Kane County Board of Commissioners, 719 South Batavia Avenue, Geneva, IL 60134 | April 28, 2010 | 170896
Sedgwick | City of Park City (09-07-1605P) | January 4, 2010; January 11, 2010; Wichita Eagle | The Honorable Emil Bergquist, Mayor, City of Park City, 6110 North Hydraulic Street, Park City, KS 67219 | May 11, 2010 | 200963
Sedgwick | Unincorporated areas of Sedgwick County (09-07-1605P) | January 4, 2010; January 11, 2010; Wichita Eagle | The Honorable Kelly Parks, Chairman, Sedgwick County Board of Commissioners, 525 North Main Street, Suite 320, Wichita, KS 67203 | May 11, 2010 | 200321
Louisiana: Caddo | City of Shreveport (09-06-2855P) | January 4, 2010; January 11, 2010; The Times | The Honorable Cedric Glover, Mayor, City of Shreveport, 505 Travis Street, Shreveport, LA 71101 | May 11, 2010 | 220036
Ohio:
Lucas | City of Toledo (09-05-5298P) | January 6, 2010; January 13, 2010; Toledo Blade | The Honorable Carleton S. Finkbeiner, Mayor, City of Toledo, 1 Government Center, 640 Jackson, Suite 2200, Toledo, OH 43604 | December 29, 2009 | 395373
Miami | City of Troy (09-05-3442P) | December 14, 2009; December 21, 2009; Troy Daily News | The Honorable Michael Beamish, Mayor, City of Troy, 100 South Market Street, Troy, OH 45373 | December 30, 2009 | 390402
Montgomery | City of Moraine (08-05-1380P) | December 9, 2009; December 16, 2009; Dayton Daily News | The Honorable Roger Mathney, Mayor, City of Moraine, 4200 Dryden Road, Moraine, OH 45439 | April 15, 2010 | 390414
Montgomery | City of West Carrollton (08-05-1380P) | December 9, 2009; December 16, 2009; Dayton Daily News | The Honorable Jeffery W. Sanner, Mayor, City of West Carrollton, 300 East Central Avenue, West Carrollton, OH 45449 | April 15, 2010 | 390419
Oklahoma:
Tulsa | City of Glenpool (09-06-0482P) | January 7, 2010; January 14, 2010; Tulsa Daily Commerce & Legal News | The Honorable Shayne Buchanan, Mayor, City of Glenpool, P.O. Box 70, Glenpool, OK 74033 | December 30, 2009 | 400208
Tulsa | Unincorporated areas of Tulsa County (09-06-0482P) | January 7, 2010; January 14, 2010; Tulsa Daily Commerce & Legal News | The Honorable Karen Keith, Tulsa County Board of Commissioners, 500 South Denver Avenue, Tulsa, OK 74103 | December 30, 2009 | 400462
Pennsylvania:
Chester | Borough of West Chester (09-03-1120P) | January 4, 2010; January 11, 2010; Daily Local News | The Honorable Dick B. Yoder, Mayor, Borough of West Chester, 401 East Gay Street, West Chester, PA 19380 | December 24, 2009 | 420292
Northampton | City of Bethlehem (09-03-1764P) | December 31, 2009; January 7, 2010; Express-Times | The Honorable John B. Callahan, Mayor, City of Bethlehem, 10 East Church Street, Bethlehem, PA 18018 | December 22, 2009 | 420718
Tennessee: Wilson | City of Lebanon (10-04-0682P) | January 8, 2010; January 15, 2010; Lebanon Democrat | The Honorable Philip Craighead, Mayor, City of Lebanon, 200 North Castle Heights Avenue, Suite 100, Lebanon, TN 37087 | May 17, 2010 | 470208
Texas:
Brazoria | City of Angleton (08-06-2457P) | June 8, 2009; June 15, 2009; The Facts | The Honorable J. Patrick Henry, Mayor, City of Angleton, 121 South Velasco Street, Angleton, TX 77515 | October 13, 2009 | 480064
Collin | City of Frisco (09-06-2567P) | January 8, 2010; January 15, 2010; Frisco Enterprise | The Honorable Maher Maso, Mayor, City of Frisco, 6101 Frisco Square Boulevard, Frisco, TX 75034 | May 17, 2010 | 480134
Denton | City of Lewisville (09-06-0314P) | December 30, 2009; January 6, 2010; Lewisville Leader | The Honorable Dean Ueckert, Mayor, City of Lewisville, P.O. Box 299002, Lewisville, TX 75029 | May 6, 2010 | 480195
Lubbock | City of Lubbock (08-06-2706P) | January 4, 2010; January 11, 2010; Lubbock Avalanche-Journal | The Honorable Tom Martin, Mayor, City of Lubbock, P.O. Box 2000, Lubbock, TX 79457 | May 11, 2010 | 480452
Travis | City of Austin (09-06-2275P) | January 8, 2010; January 15, 2010; Austin American Statesman | The Honorable Lee Leffingwell, Mayor, City of Austin, P.O. Box 1088, Austin, TX 78767 | May 17, 2010 | 480624
Virginia: City of Newport News | City of Newport News (09-03-1019P) | December 24, 2009; December 31, 2009; Daily Press | The Honorable Joe S. Frank, Mayor, City of Newport News, 2400 Washington Avenue, Newport News, VA 23607 | April 30, 2010 | 510103
Wyoming:
Campbell | Unincorporated areas of Campbell County (09-08-0286P) | January 4, 2010; January 11, 2010; The News-Record | The Honorable Dan Coolidge, Chairman, Campbell County Board of Commissioners, 901 Fairway Drive, Gillette, WY 82718 | May 11, 2010 | 560081
Campbell | City of Gillette (09-08-0286P) | January 4, 2010; January 11, 2010; The News-Record | The Honorable Duane Evenson, Mayor, City of Gillette, 1411 West 4th Street, Gillette, WY 82716 | May 11, 2010 | 560007

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12475 Filed 5-24-10; 8:45 am]

BILLING CODE 9110-12-P